DEPARTMENT OF AGRICULTURE

Rural Utilities Service

Information Collection Activity; Comment Request

AGENCY: Rural Utilities Service, USDA.

ACTION: Notice and request for comments.

SUMMARY: In accordance with the Paperwork Reduction Act of 1995 (44 U.S.C. chapter 35, as amended), the Rural Utilities Service (RUS) an agency delivering the U.S. Department of Agriculture (USDA) Rural Development Utilities Programs invites comments on this information collection for which approval from the Office of Management and Budget (OMB) will be requested.

DATES: Comments on this notice must be received by January 3, 2011.

FOR FURTHER INFORMATION CONTACT: Thomas P. Dickson, Deputy Director, Program Development and Regulatory Analysis, Rural Utilities Service, 1400 Independence Ave., SW., STOP 1522, Room 5159 South Building, Washington, DC 20250-1522. FAX: (202) 720-8435. Telephone: (202) 690-4492. Fax: (202) 720-8435. E-mail: thomas.dickson@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology. Comments may be sent to: Michele L. Brooks, Program Development and Regulatory Analysis, Rural Utilities Service, U.S. Department of Agriculture, STOP 1522, 1400 Independence Ave., SW., Washington, DC 20250-1522. FAX: (202) 720-8435.

Title: Electric Loan Application and Related Reporting Burdens.

OMB Number: 0572-0032.

Type of Request: Revision of a currently approved information collection.

Abstract: The Rural Electrification Act of 1936 (7 U.S.C. 901 et seq.), as amended (RE Act) authorizes and empowers the Administrator of RUS to make and guarantee loans to furnish and improve electric service in rural areas. These loans are amortized over a period of up to 35 years and secured by the borrower's electric assets. The information collection covered by OMB Control Number 0572-0032 consists of written materials, reports, forms, and certifications to support an application for a Distribution loan from RUS. In addition, the collection covers an annual submission by Distribution borrowers and Generation and Transmission Borrowers (G&Ts) of operation report data. Entities applying for a loan follow the procedures outlined in 7 CFR 1710, subpart I, to determine the required documentation for a loan application.

At this time, RUS is revising the information collection to require additional data to be submitted by Distribution and G&T borrowers related to Renewable Energy and Energy Efficiency.

Data Pertaining to Renewable Energy Generation

The current standard form of loan contract has annual reporting requirements and these reporting requirements capture all generation investment as a generic matter today. The revised data collection related to the RUS Form 12 will break out renewable investments as a separate line item. Accordingly, the total burden hours total associated with reporting these data elements is not materially different from before but we will now see investment and project size data itemized by type of renewable fuel.

Data Pertaining to Energy Efficiency

The Agency is implementing an effort to make loans to our utility borrowers who will in turn make retail loans to their electric consumers to finance energy efficiency improvements on the consumer premises. The utilities will design their own energy efficiency programs depending on the needs and profile of their service territory. The revised data collection related to the RUS Form 7 will capture the type of energy efficiency program, the number of customers involved, the amount invested and estimated Million British Thermal Unit savings.

Estimate of Burden: Public reporting burden for this collection of information is estimated to average 15.51 hours per response.

Respondents: Businesses or other for profits; not-for-profit institutions.

Estimated Number of Respondents: 650.

Estimated Number of Responses per Respondent: 6.60.

Estimated Total Annual Burden on Respondents: 66,548.

Copies of this information collection, and related form and instructions, can be obtained from Thomas P. Dickson, Program Development and Regulatory Analysis, at (202) 690-4492. FAX: (202) 720-8435. E-mail: thomas.dickson@wdc.usda.gov.

All responses to this notice will be summarized and included in the request for OMB approval. All comments will also become a matter of public record.

Dated: October 27, 2010.
Jonathan Adelstein,
Administrator, Rural Utilities Service.

[FR Doc. 2010-27565 Filed 11-1-10; 8:45 am]

BILLING CODE 3410-15-P